DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held February 24 & 25, 2004, at the Grand Union Hotel in Fort Benton, Montana. The February 24 meeting will begin at 1 p.m. with a 30-minute public comment period. The meeting is scheduled to adjourn at approximately 7:30 p.m. The February 25 meeting will begin at 8 a.m. with a 60-minute public comment period. This meeting will also adjourn at approximately 7:30 p.m.

SUPPLEMENTARY INFORMATION: This 15-member council advises the Secretary of the Interior on a variety of management issues associated with public land management in Montana. At this meeting the council will discuss:

An overview of the alternative formulation for the Upper Missouri River Breaks National Monument Resource Management Plan;

Recommendations for a working preferred alternative for this management plan;

Field manager update;

And, additional updates on the Fort Benton Interpretive Center, proposed grazing regulations, the Blackleaf Environmental Impact Statement and the Lewis and Clark Bicentennial.

All meetings are open to the public. The public may present written comments to the RAC. Each formal RAC meeting will also have time allocated for hearing public comments. Depending on the number of persons wishing to comment and time available, the timer for individual oral comments may be limited.

FOR FURTHER INFORMATION CONTACT: Dave Mari, Lewistown Field Manager, Lewistown Field Office, Airport Road, Lewistown, Montana 59457, (406) 538-7461.

Dated: January 30, 2004.
David L. Mari,
Lewistown Field Manager.

[FR Doc. 04-2398 Filed 2-3-04; 8:45 am]

BILLING CODE 4310-$$-P